DEPARTMENT OF TRANSPORTATION

Federal Motor Carrier Safety Administration

[Docket No. FMCSA-2005-22097]

Request for Information on New Commercial Vehicle Safety Inspection Concepts

AGENCY: Federal Motor Carrier Safety Administration (FMCSA), DOT.

ACTION: Notice of request for information (RFI).

SUMMARY: FMCSA invites comments, suggestions and creative ideas on new operational concepts that will improve commercial vehicle safety inspections through more thorough performance-based inspections. Commercial vehicle roadside safety inspections represent one of the most effective tools for monitoring and regulating the condition of the in-use commercial vehicle fleet, as well as for auditing and enforcing driver and operational-related safety practices, including hours of service, proper driver credentialing, and other safety aspects of commercial vehicle equipment and operations. New technologies such as advanced sensor and on-board diagnostics as well as wireless communications offer the potential for dramatically improving the effectiveness and efficiency of the roadside commercial vehicle safety inspection process. This Request for Information directly supports the Agency's top priority initiative—Comprehensive Safety Analysis 2010, or CSA-2010—which is a top-to-bottom review of how FMCSA can best develop and manage programs that are most effective in improving motor carrier safety.

DATES: Send your comments on or before October 17, 2005.

ADDRESSES: You may submit comments identified by any of the following methods. Please identify your comments by the FMCSA Docket Number FMCSA-2005-22097.

• Web site: http://dms.dot.gov. Follow instructions for submitting comments to the Docket.

• Fax: (202) 493-2251.

• Mail: U.S. Department of Transportation, Docket Management Facility, 400 Seventh Street, SW., Plaza level, Washington, DC 20590-0001.

• Hand Delivery: Plaza level of the Nassif Building, 400 Seventh Street, SW., Washington, DC, between 9 a.m. and 5 p.m., Monday through Friday, except Federal holidays.

• Federal eRulemaking Portal: Go http://regulations.gov. Follow the on-line instructions for submitting comments.

Docket: For access to the Docket Management System (DMS) to read background documents or comments received, go to http://dms.dot.gov at any time or to the plaza level of the Nassif Building, 400 Seventh Street, SW., Washington, DC, between 9 a.m. and 5 p.m., Monday through Friday, except Federal holidays. The DMS is available electronically 24 hours each day, 365 days each year. If you want notification of receipt of your comments, please include a self-addressed, stamped envelope, or postcard or print the acknowledgement page that appears after submitting comments on-line.

Privacy Act: Anyone is able to search the electronic form of all comments received into any of our dockets by the name of the individual submitting the comment (or signing the comment, if submitted on behalf of an association, business, labor union, etc.). You may review DOT's complete Privacy Act Statement in the Federal Register on April 11, 2000 (65 FR 19477) or you may visit http://dms.dot.gov.

FOR FURTHER INFORMATION CONTACT: Jeff Loftus, Federal Motor Carrier Safety Administration, Office of Research and Technology at (202) 385-2363 jeff.loftus@fmcsa.dot.gov. Office hours are from 9 a.m. to 5 p.m. e.s.t., Monday through Friday, except Federal holidays.

SUPPLEMENTARY INFORMATION:

Background

Statistics show there are 8 million trucks and buses that travel 208 billion miles on our nation's highways each year, and commercial vehicle miles traveled are forecasted to grow approximately 2 percent annually. In addition, truck traffic will increase approximately 25 percent over the next 10 years. Therefore, the need for developing new innovative inspection concepts-of-operation that leverage new technologies, result in more thorough performance-based inspections, and improve cost effectiveness is a high priority for FMCSA.

Commercial vehicle roadside safety inspections, targeted to higher risk carriers (as determined by prior roadside inspection and crash history), and conducted annually by 10,000 roadside safety inspectors, uncover some type of violation related to the vehicle condition, driver credentials, or hours of service in well over 80% of all inspections. In 2004, the approximately 3 million roadside safety inspections resulted in 1 million out-of-service violations and 7.2 million total violations.

FMCSA is attempting to develop feasible operational concepts for partially or fully automating the commercial vehicle inspection process. Greater automation has the potential to improve the quality of inspections, increase the number of vehicles screened and inspected, and/or enable faster inspections, resulting in improved effectiveness, efficiency, and most of all safety

Under the current safety inspection process, vehicle and driver inspections are delineated by different “levels”. The North American Standard Driver/Vehicle Inspection or “Level 1” inspection involves all driver documentation and a complete vehicle inspection. The time taken for a Level 1 inspection is typically about 30-40 minutes, so improving the speed with which inspections are performed would be a benefit to carriers in terms of their operational efficiency.

There are 5 additional inspection levels. A Level 2 inspection, called a “Walkaround Driver/Vehicle Inspection,” is the same as a Level 1, except there is no checking under the vehicle. A Level 3 inspection, called a “Driver Only Inspection,” involves only a review of driver documentation and carrier credentials. A Level 4 inspection, called a “Special Study,” can involve any aspect of the inspection process and is usually done for data-gathering purposes. A Level 5 inspection, called a “Vehicle Only Inspection,” includes only the vehicle portion of a Level 1 inspection (conducted without a driver present). Finally, a Level 6 inspection, called “Enhanced Radioactive Inspection,” is the most comprehensive inspection of all due to the hazardous material in the cargo.

In addition, the Federal Highway Administration's (FHWA) Office of Freight Management and Operations oversees state enforcement of heavy truck and bus size and weight standards in the United States. Compliance with Federal weight regulations is checked by state DOT personnel, often in coordination with the various levels of commercial vehicle inspections performed by state enforcement personnel. In past years, FHWA has explored the use of various weigh-in-motion (WIM) technologies to prescreen vehicles for their conformance with maximum weight restrictions. In this current research effort, FMCSA, with its focus on conducting safety inspections, is working with FHWA in their research on use of new technologies for vehicle weight enforcement. Therefore, leveraging technology for weight enforcement purposes will be considered in this project in addition to any new safety inspection concepts developed under it.

This project falls under the DOT Intelligent Transportation Systems (ITS) Program. Section 5204(j)(2) of the Transportation Equity Act for the 21st Century, Pub. L. 105-178 (TEA-21), provides that an ITS project involving surveys, questionnaires, or interviews is exempt from the requirements of the Paperwork Reduction Act, Chapter 35 of Title 44 of the U.S. Code. TEA-21 Section 5204(j)(2) states: “Any survey, questionnaire, or interview that the Secretary considers necessary to carry out the evaluation of any test, deployment project, or program assessment activity under this subtitle shall not be subject to chapter 35 of title 44.” 23 U.S.C.A. 502 Note.

Definitions

Inspection Process: This research effort involves investigating ways in which wireless and other advanced its technologies may be applied to improve aspects of “the inspection process”. This phrase should be interpreted broadly to include: (1) Screening activities (e.g., screening of driver identification and related safety information, vehicle identification, credentials, etc.); (2) the inspection itself (e.g., Level 1 inspection process); and (3) other related information technology issues that affect both the time spent on an inspection and the quality of an inspection, (e.g., data communications; data input from inspectors; lack of data automation; lack of consolidation of databases/information systems, etc.).

Purpose

The purpose of this effort is to request information on new technology concepts that can help improve the efficiency, effectiveness, and long-term results of performance-based commercial vehicle safety inspections. Information collected will serve as one of many inputs into an exploratory research and technology project looking at various advanced inspection concepts for getting data from the vehicle to the roadside. The project is not directly related to FMCSA's Advance Notice of Proposed Rulemaking titled, “Electronic On-Board Recorders for Hours-of-Service Compliance,” Docket FMCSA-2004-18940, published in the Federal Register on September 1, 2004 (69 FR 53386).

Questions for Response

1. For the existing safety inspection levels (1-6) referred to above, current procedures for conducting these are for the most part “manual”, i.e., an inspector manually checks items via visual, hands-on procedures. What new operational concept(s) might be developed to more fully automate commercial vehicle screening and inspections to allow more and better quality inspections to be performed (particularly on high-risk carriers)? Please describe the new concept(s).

2. Considering both vehicle and driver-related inspection items, which systems or parameters might lend themselves to being accurately monitored by on-board sensors? Please comment on all that apply.

3. If some of the items identified in question 2 are NOT currently available in an electronic format on most vehicles (e.g., DOT number), how could this information be made available electronically to enable wireless transmission from the vehicle?

4. In the future, if on-board technology could be used to monitor vehicle and driver status and electronically maintain driver history, and if these data are wirelessly transmitted to the inspection site, please rank order the following in terms of usefulness for selecting (screening) vehicles for further (manual) inspection (1 being most important and 12 being the least important):

_Tire Condition

_Vehicle Weight

_Driver Qualifications

_Lighting system

_Exhaust System

_Vehicle Inspection History

_Brake Condition

_Driver HOS

_Carrier Performance

_Suspension

_Steering

_Other (please specify)

5. The items identified in the response to questions 2 through 4 might be used to define a “safety data message set” that could be transmitted via wireless communication to the roadside for the purposes of automated screening and/or inspection of commercial vehicles. Please comment on the feasibility of implementing a new screening and/or inspection system that utilizes such a safety data message set. What key issues (technical, economic, institutional, operational, etc.) would need to be addressed to develop and implement such an inspection concept?

6. If on-board technology, as described above, were implemented for screening commercial vehicles, how should the information be presented to inspectors? (select one)

(a) A simple fault/no-fault for each system based on predetermined “rules” or algorithms that define “fault” using system-specific performance measures. For example, a listing of those systems or items for which a “failure” was detected would be transmitted to the inspection site.

(b) A “snapshot” of recently recorded performance or operational values being measured for each system (e.g., data stored within the last 30 minutes of operation). The exact format and methodology for recording the “snapshot” data would again be developed as an industry standard much like standardized emissions data.

(c) Actual real-time feeds of parameters being measured by the on-board diagnostic equipment, (e.g., “live” feed of tire pressures, brake condition sensing, etc.).

(d) Other.

7. When/how should this information be available to the inspection site?” (select one).

(a) Well before the inspection station (perhaps 2 miles) so that a decision to inspect/not inspect can be made and a return signal sent within sufficient time to allow the truck to enter or bypass the station.

(b) Upon entering the exit ramp for inspection, but before scales/scale house at about the same point where WIM equipment is often positioned.

(c) In front of scale house to allow visual inspection.

(d) Anytime/anywhere while vehicle is on the highway upon request from any computer terminal (including mobile).

(e) Other.

8. If the on-board sensors report all vehicle systems are functioning properly, what other conditions/information would be needed in order for the commercial vehicle to be permitted to bypass the inspection station, even if it were randomly sampled for inspection? (select one)

(a) None. If all sensors report no fault, the truck may bypass the station.

(b) Would still need/want USDOT registration number to check carrier history.

(c) Would still need/want CDL or other license information to check driver history.

(d) For trucks randomly sampled for inspection, no matter what information about the carrier, driver or truck was transmitted, the truck would still need to pass in front of inspectors at slow speed to allow for quick visual inspection.

(e) Other.

9. Please rank the following concerns/challenges with implementing an “automated” wireless type of safety inspection concept, with 1 being the greatest concern and 5 being the least concern.

(a) _Privacy concerns

(b) _Electronic falsification of data

(c) _Accuracy of measured data

(d) _Operator resistance to implementation

(e) _Added operational and maintenance requirements

(f) _Other (please specify)

10. Regarding driver HOS violations, what would be sufficient to transmit to the inspection station? (select one)

(a) A simple “in-violation” versus “no-violation” signal.

(b) Information that indicates if an operator is approaching a violation threshold.

(c) The actual HOS for each rule (e.g., 60-hr., 70 hr., etc.).

(d) The complete logbook regardless of status of violation.

(e) Other.

11. Regarding the options described below, which would you deem more helpful for improving the overall screening, inspection process, and safety of commercial vehicles and why? (select one)

Option 1: Utilize on-board vehicle sensors to monitor brake wear, tire pressure, and other critical parameters. Also, electronically identify the driver CDL information using smart cards/readers and electronically coded U.S. DOT and license numbers. Combine all electronic information (vehicle health, CDL, and carrier identifier data) to form a “safety data message set” that could be wirelessly transmitted from the vehicle to a fixed or mobile roadside inspection station, or other locations as needed. This data could be used to eliminate portions of a manually-performed vehicle inspection, reduce the amount of time spent inspecting each truck, improve effectiveness, and assist in identifying which trucks to inspect. Information could be sent to carriers as well to provide vehicle diagnostic and driver data for fleet safety management purposes. In the future, when sufficient accuracy and system security (anti-tampering) can be assured, a new automated inspection level could be defined, i.e., “Level 7,” where citations would be given to the drivers and automatically sent to carriers.

Option 2: Implement a screening procedure whereby vehicle, carrier, and driver identifier-only information (i.e., no “real-time” vehicle health or driver status data) could be downloaded wirelessly from each vehicle well in advance of the weigh/inspection station. The information could then be used to query databases containing driver history and credentialing data, past vehicle inspection history, and carrier-safety-rating data. Vehicle weight would be monitored using in-road (WIM) equipment and correlated with the identifier information obtained wirelessly.

Option 3: Similar to Option 2, except carrier and vehicle identifier data are obtained from roadside equipment only (no transponder on vehicle) using high-accuracy video that reads DOT and license numbers. Vehicle weight would be monitored using in-road (WIM) equipment and correlated with the identifier data.

Option 4: Maintain the same procedures currently used, but increase the number of trucks inspected through use of additional manpower and facilities.

_Option 1 _ Option 2 _ Option 3 _ Option 4

Comments:

12. What technology for wirelessly transmitting data from the vehicle to the roadside inspection site should be favored and why? (select one)

_Wi-Fi_Cellular_Satellite_Other

_Any and all of the above

Comments:

13. As noted earlier, on average, a heavy duty commercial vehicle (tractor-trailer) is likely to receive an inspection approximately once per year with trucks from higher risk carriers often inspected more frequently. How frequently would inspections need to occur before carriers and operators (particularly high-risk carriers) would begin to significantly modify their behavior relative to vehicle maintenance and driver compliance? Once a month? Once a week? Other? If a subset of inspection information could be electronically screened at all inspection sites (i.e., brake, tire, and lighting system diagnostic data; electronic hours-of-service record; CDL information; and carrier and vehicle identification data), how would this impact carrier and operator behavior?

14. If such a program were implemented on a national scale (together with high-speed WIM technology), it could reduce the amount of time vehicles spend at roadside inspection facilities. Depending on the cost of implementing such technology from the motor carrier's perspective, the increase in efficiency may well be cost beneficial. However, it has been argued that such new technology systems are often adopted by “good carriers” and, as such, they do little to improve the safety of poorer performing carriers. Please comment on possible strategies and approaches for implementing a nationwide wireless vehicle inspection program that would encourage broad-based participation from a significant percentage of motor carriers. Could a voluntary program with incentives be successful (identify and explain potential incentives)? Should a phased-in regulatory approach be considered? Other?

15. Please provide any other comments on the safety benefits, technical barriers, institutional challenges and/or costs of implementation associated with a wireless, automated safety inspection program.

Issued on: August 5, 2005.
Annette M. Sandberg,
Administrator.

[FR Doc. 05-16163 Filed 8-15-05; 8:45 am]

BILLING CODE 4910-EX-P